DEPARTMENT OF TRANSPORTATION

Federal Railroad Administration

49 CFR Part 213

[Docket No. FRA-2024-0032]

RIN 2130-AC96

Track Geometry Measurement System (TGMS) Inspections; Extension of Comment Period

AGENCY: Federal Railroad Administration (FRA), Department of Transportation (DOT).

ACTION: Notice of proposed rulemaking (NPRM); extension of comment period.

SUMMARY: On October 24, 2024, FRA published an NPRM proposing to revise its regulations governing the minimum safety requirements for railroad track. The proposed changes would require all Class I and II railroads, as well as intercity passenger railroads and commuter railroads, to operate a qualifying Track Geometry Measurement System (TGMS), a type of automated track inspection (ATI) technology, at specified frequencies on all Class 1 through 5 mainline and controlled siding track that transports: annual tonnage greater than 10 million gross tons (MGT), regularly scheduled passenger rail service, or trains containing hazardous materials. FRA also proposed increasing the required frequency of TGMS inspections on Class 6 track. By this notification, FRA is extending the NPRM's comment period, which will close on December 23, 2024, by 15 days.

DATES: The comment period for the NPRM published on October 24, 2024, at 89 FR 84845, is extended. Comments should be received on or before January 7, 2025.

ADDRESSES:

Comments: Comments related to Docket No. FRA-2024-0032 may be submitted by going to https://www.regulations.gov and following the online instructions for submitting comments.

Instructions: All submissions must include the agency name, docket name, and docket number or Regulatory Identification Number (RIN) for this rulemaking (2130-AC96). Note that all comments received will be posted without change to https://www.regulations.gov, including any personal information provided. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Yu-Jiang Zhang, Staff Director, Track and Structures Division, Office of Railroad Safety, Federal Railroad Administration, 1200 New Jersey Avenue SE, W33-302, Washington, DC 20590, telephone: 202-493-6460; or Aaron Moore, Senior Attorney, Office of the Chief Counsel, Federal Railroad Administration, 1200 New Jersey Avenue SE, Washington, DC 20590, telephone: 202-853-4784.

SUPPLEMENTARY INFORMATION: In a November 13, 2024, letter, the American Short Line and Regional Railroad Association (ASLRRA) requested a 60-day extension of the NPRM's comment period.¹ ASLRRA stated it needs additional time to consult with members regarding the potential impact of the proposed rule. ASLRRA's letter cited the fact that FRA issued three NPRMs ² during a short timeframe, did not consult with Railroad Safety Advisory Committee regarding the proposed rules, and that the publication of the NPRMs and the comment deadlines are impacted by the fall and winter holiday season.

¹ 89 FR 84845 (Oct. 24, 2024).

² 89 FR 84845 (Oct. 24, 2024); 89 FR 85462 (Oct. 28, 2024); 89 FR 85895 (Oct. 29, 2024).

In a November 25, 2024, letter, the Association of American Railroad (AAR) made a similar request, also seeking a 60-day extension. AAR's letter cited similar concerns as ASLRRA's letter.

The comment period for this NPRM is scheduled to close on December 23, 2024. As FRA is granting an extension in response to the requests from ASLRRA and AAR, the comment period is now extended to January 7, 2025, which is a total of 15 days. Although ASLRRA and AAR requested a 60-day extension, FRA believes that a 15-day extension will provide sufficient time for ASLRRA, AAR, and other interested parties to review the NPRM.

Privacy Act

In accordance with 5 U.S.C. 553(c), DOT solicits comments from the public to better inform its rulemaking process. DOT posts these comments, without edit, to www.regulations.gov, as described in the system of records notice, DOT/ALL-14 FDMS, accessible through www.dot.gov/privacy. To facilitate comment tracking and response, we encourage commenters to provide their name, or the name of their organization; however, submission of names is completely optional. Whether or not commenters identify themselves, all timely comments will be fully considered. If you wish to provide comments containing proprietary or confidential information, please contact the agency for alternate submission instructions.

Authority: 49 U.S.C. 20102-20114 and 20142; 28 U.S.C. 2461 note; and 49 CFR 1.89.

Issued in Washington, DC.
Allison Ishihara Fultz,
Chief Counsel.

[FR Doc. 2024-30595 Filed 12-20-24; 8:45 am]

BILLING CODE 4910-06-P